DEPARTMENT OF HEALTH AND HUMAN SERVICES

Administration for Children and Families

Proposed Information Collection Activity; OPRE Data Collection for State Child Welfare Data Linkages Descriptive Study (New Collection)

AGENCY: Office of Planning, Research, and Evaluation, Administration for Children and Families, HHS.

ACTION: Request for Public Comment.

SUMMARY: The Administration for Children and Families (ACF) is requesting approval from the Office of Management and Budget (OMB) for a new primary data collection about connected child welfare data. We define connected data as child welfare data that are linked or integrated with data from other systems or agencies. The State Child Welfare Data Linkages Descriptive Study (Data Linkages Descriptive Study) will gather systematic information on the extent to which states connect their child maltreatment data to other data sets; how any linked data sets are created, managed, and used; and challenges states face in linking data.

DATES: Comments due within 60 days of publication. In compliance with the requirements of the Paperwork Reduction Act of 1995, ACF is soliciting public comment on the specific aspects of the information collection described above.

ADDRESSES: Copies of the proposed collection of information can be obtained and comments may be forwarded by emailing OPREinfocollection@acf.hhs.gov. Identify all requests by the title of the information collection.

SUPPLEMENTARY INFORMATION: Description: The State Child Welfare Data Linkages Descriptive Study will examine the extent to which child welfare agencies in 50 states, Puerto Rico, and Washington, DC, link administrative data on child maltreatment to data in other systems and to learn more about states' practices related to sharing and linking data. The study aims to inform the ongoing and accurate surveillance of child maltreatment and identify facilitators and barriers to connected data efforts (integrated data or linked data).

These data are not available from existing sources. This study aims to present an internally valid description of the data capacity of participating state child welfare agencies, not to promote statistical generalization to different sites or service populations.

Respondents: State child welfare directors, designated state child welfare agency staff (identified by a state child welfare director as having knowledge about the state's connected data efforts), and designated county staff (identified by a state child welfare director as having knowledge about a county's connected data efforts).

Annual Burden Estimates:

Instrument | Number of respondents (total over request period) | Number of responses per respondent (total over request period) | Average burden per response (in hours) | Total burden (in hours) | Annual burden (in hours)
Initial survey of state child welfare directors | 52 | 1 | 0.67 | 35 | 18
Survey of connected data efforts ¹ | 208 | 1 | 0.58 | 121 | 61
Interviews with individuals responsible for connected data efforts | 120 | 1 | 1 | 120 | 60
Estimated Total Annual Burden Hours:109
¹ Estimates for burden hours define respondent by survey administration and not by the number of different people completing the survey.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 44 U.S.C. 5105.

Mary B. Jones,
ACF/OPRE Certifying Officer.

[FR Doc. 2022-02928 Filed 2-10-22; 8:45 am]

BILLING CODE 4184-29'-P